DEPARTMENT OF ENERGY

Federal Energy Regulatory Commission

[Project No. 2466-037]

Appalachian Power Company; Notice of Application Tendered for Filing With the Commission and Establishing Procedural Schedule for Licensing and Deadline for Submission of Final Amendments

Take notice that the following hydroelectric application has been filed with the Commission and is available for public inspection.

a. Type of Application: New Major License.

b. Project No.: 2466-037.

c. Date Filed: February 28, 2022.

d. Applicant: Appalachian Power Company (Appalachian).

e. Name of Project: Niagara Hydroelectric Project (Niagara Project).

f. Location: The project is located on the Roanoke River, in Roanoke County, Virginia. The project occupies 0.9 acre of federal land managed by the National Park Service.

g. Filed Pursuant to: Federal Power Act, 16 U.S.C. 791(a)-825(r).

h. Applicant Contact: Mr. Jonathan Magalski, Environmental Supervisor, Renewables, American Electric Power Service Corporation c/o Appalachian Power Company, 1 Riverside Plaza, Columbus, OH 43215; Phone at (614) 716-2240 or email at jmmagalski@aep.com.

i. FERC Contact: Laurie Bauer at (202) 502-6519, or laurie.bauer@ferc.gov.

j. This application is not ready for environmental analysis at this time.

k. The Niagara Project consists of: (1) A 52-foot-high, 462-foot-long concrete dam, inclusive of the right non-overflow abutment (70 feet long) and main spillway (392 feet long) with a crest elevation of 885 feet National Geodetic Vertical Datum of 1929 (NGVD 29); (2) a 62-acre impoundment with a gross storage capacity of 425 acre-feet at the normal pool elevation of 884.4 feet NGVD 29; (3) an 11-foot-diameter, 500-foot-long corrugated metal pipe penstock with associated entrance and discharge structures; (4) a 1,500-foot-long bypassed reach; (5) a 92-foot-long, 58-foot-wide, 42-foot-high concrete powerhouse containing two generating units with a total authorized installed capacity of 2.4 megawatts (MW); (6) a 103-foot-long auxiliary spillway with a crest elevation of 886 feet NGVD 29 located downstream of the upstream intake; (7) transmission facilities consisting of 50-foot-long, 2.4-kilovolt (kV) generator leads and a 3-phase, 2.4/12-kV, 2,500-kilovolt ampere (kVA) step-up transformer; and (8) appurtenant facilities.

The Niagara Project operates in a run-of-river (ROR) mode under all flow conditions, where inflow equals outflow, with an average annual generation of 8,557 megawatt-hours between 2018 and 2021. The project is operated to maintain the impoundment at or near elevation 884.4 feet NGVD 29, which is 0.6 foot below the crest of the main spillway. During extreme flow conditions, such as rapidly changing inflows, Appalachian operates the project with a minimum impoundment elevation of 883.4 feet NGVD 29. Appalachian releases a minimum flow of 50 cubic feet per second (cfs), or inflow to the impoundment, whichever is less, below the project. Appalachian provides a minimum flow of 8 cfs into the bypassed reach through the sluice gate or over the spillway.

Appalachian proposes to continue operating the project in a ROR mode and to increase the existing minimum flow provided to the bypassed reach to 30 cfs. In addition to this measure, which is intended to protect water quality and aquatic resources in the bypassed reach, Appalachian proposes environmental measures for the protection and enhancement of terrestrial and recreation resources.

l. A copy of the application can be viewed on the Commission's website at http://www.ferc.gov, using the “eLibrary” link. Enter the docket number, excluding the last three digits in the docket number field, to access the document (P-2466). For assistance, contact FERC at FERCOnlineSupport@ferc.gov, or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | March 2022.
Request Additional Information (if necessary) | May 2022.
Notice of Acceptance/Notice of Ready for Environmental Analysis | January 2023.¹

o. Final amendments to the application must be filed with the Commission no later than 30 days from the issuance date of the notice of ready for environmental analysis.

¹ The Roanoke Logperch Larval Drift Survey, a sub-study of the Fish Community Study, is scheduled to be completed in 2022. In the final license application, Appalachian states that the final study report will be filed in late 2022.

Dated: March 10, 2022.
Debbie-Anne A. Reese,
Deputy Secretary.

[FR Doc. 2022-05587 Filed 3-16-22; 8:45 am]

BILLING CODE 6717-01-P